ENVIRONMENTAL PROTECTION AGENCY

[FRL-6894-9]

Notice of Request for Pre-Proposals for Projects To Be Funded From the Water Quality Cooperative Agreement Allocation

AGENCY: Environmental Protection Agency (EPA).

ACTION: Notice.

SUMMARY: EPA is soliciting pre-proposals from States, Tribal governments, universities, non-profits, and other eligible entities interested in applying for Federal assistance for Water Quality Cooperative Agreements under the Clean Water Act Section 104(b)(3). EPA Headquarters will award an estimated $3.9 million to eligible applicants through assistance agreements ranging in size from $10,000 up to $500,000 for innovative projects/demonstrations/studies that have maximum transferability or can be used as models relating to the prevention, reduction, and elimination of water pollution. The Agency intends to make available at least $200,000 per year of the annual appropriation Water Quality Cooperative Agreements, from FY 2001 through FY 2005, for projects which address cooling water intake issues to include technical and environmental studies.

DATES: EPA will consider all pre-proposals received on or before 5 pm Eastern Time November 27, 2000. Pre-proposals received after the due date, may be reviewed at EPA's discretion.

ADDRESSES: It is preferred that pre-proposals be electronically mailed (E-mailed) to WQCA2001@EPA.GOV. If mailed through the postal service or other means, three copies should be sent to: Barry Benroth, 4204M, WQCA2001, U.S. Environmental Protection Agency, 1200 Pennsylvania Avenue, NW, Washington, DC 20460.

For Overnight Delivery the following address must be used: Barry Benroth, 4204M, WQCA2001, U.S. Environmental Protection Agency, Room 7324 J, ICC Building, 1200 Pennsylvania Avenue, NW, Washington, DC 20460.

FOR FURTHER INFORMATION CONTACT: Barry Benroth by telephone at 202-564-0672 or by E-mail at benroth.barry@epa.gov.

SUPPLEMENTARY INFORMATION:

What Is the Purpose of This Request for Pre-Proposals?

The Office of Wastewater Management, Office of Water at EPA Headquarters is requesting pre-proposals from States, Tribes, local governments, non-profit organizations and other eligible entities under the Clean Water Act Section 104(b)(3) for unique and innovative projects that address the requirements of the National Pollutant Discharge Elimination Systems (NPDES) program with special emphasis on wet weather activities, i.e., storm water, combined sewer overflows, sanitary sewer overflows, and concentrated animal feeding operations as well as projects that enhance the ability of the regulated community to deal with non-traditional pollution problems in priority watersheds.

An organization whose pre-proposal is selected for Federal assistance must complete an EPA Application for Assistance, including the Federal SF-424 form (Application for Federal Assistance, see 40 CFR 30.12 and 31.10).

Has Office of Wastewater Management, Office of Water, EPA Headquarters Identified High Priority Areas for Consideration?

The Office of Wastewater Management at EPA Headquarters has identified several project areas for priority consideration to the extent they are for research, investigations, experiments, training, demonstrations, surveys and studies related to the causes, effects, extent, prevention, reduction, and elimination of water pollution:

Concentrated Animal Feeding Operations

Alternative markets for excess manure

Voluntary Comprehensive Nutrient Management Plans for Animal Feeding

Operations with 300 to 500 animal units

Wet Weather (Sanitary Sewer Overflows (SSOs), Combined Sewer Overflows (CSOs), Storm Water)

Water quality-based CSO program (including Use Attainability Analysis)

Integration of CSO, SSO, and storm water requirements

Measuring the effectiveness of storm water Best Management Practices (BMPs)

Trends analysis of load reductions due to implementation of storm water BMPs

Storm water monitoring techniques

Estimating quantified benefits of enhanced sewer performance (e.g., reduced backups)

Quantifying the impacts of sewage overflows

Evaluation of impacts of peak wet weather flows on Publicly Owned Treatment Works (POTW)

Capacity, Management, Operations and Maintenance (CMOM) of POTWs

Inflow/Infiltration reduction

Sewer rehabilitation methods

National Pollutant Discharge Elimination System (NPDES) Programs

Stakeholder watershed approaches

Nutrient trading

Watershed integration of NPDES programs

Innovative Permit Writing Tools

Pretreatment

Performance measures

Facilitation of innovative technology transfer

Pretreatment on the Mexican Border

Environmental Management System (EMS)

Benefits and impacts of EMS

EMS adoption by public agencies

Non-Governmental Organizations participation in EMS projects

Cooling Water Intake Structures (Clean Water Act, Section 316(b))

Innovative technologies that reduce impingement and entrainment of aquatic organisms into cooling water intakes

Ecological effects of cooling water intake structures on aquatic environments

Effectiveness of ecological restoration activities in reducing the impact of cooling water intake structures on the aquatic environment

Infrastructure Funding Related to

Asset Management

Operations and Maintenance (O&M) issues for small communities

Capacity Building for Tribes/Native Villages/Environmental Justice

Biosolids

Demonstrations of regional biosolids approaches

Food crop applications on biosolids and/or reclaimed water (assessments, research, demonstrations analyses)

Onsite/Decentralized Systems

State-level adoption of EPA management guidelines

Overcoming institutional, regulatory and funding barriers to implementation of decentralized options

Development of tools to assist communities with conducting comprehensive, watershed-wide assessments of risks associated with decentralized wastewater systems

Water Use Efficiency

EPA may also consider other project areas for funding to the extent authorized by CWA sec. 104(b)(3) and to the extent funds are available for such project areas.

Statutory Authority, Applicable Regulations, and Funding Level

Funding is authorized under the provisions of the Clean Water Act Sec. 104(b)(3), 33 U.S.C. 1254(b)(3).

The regulations governing the award and administration of Water Quality Cooperative Agreements are 40 CFR Part 30 (for institutions of higher learning, hospitals, and other non-profit organizations) and 40 CFR Part 31 (for States, Tribes, local governments, intertribal consortia, and interstate agencies). In addition, EPA expects to promulgate final rules in the near future that will include program specific regulations for Water Quality Cooperative Agreements to States, Tribes, local governments, interstate agencies and intertribal consortia. When the rules are finalized, they will be codified at 40 CFR Part 35 Subparts A and B.

Total funding available for award by Headquarters will depend on EPA's appropriation for Fiscal Year 2001; however, it is estimated that $3.9 million will be available for funding approved projects. The average size of an award is anticipated to be approximately $100,000.

Should funding available for award remain reasonably stable or increase in future years, the Agency intends to reserve $1 million ($200,000 per year of the annual amount available) over the next five years to support projects and studies on cooling water intake structures.

Pre-Proposal Format and Contents

Pre-proposals should be limited to three pages. Full application packages should not be submitted at this time. The following format should be used for all pre-proposals:

Name of Project:

Point of Contact: (Individual and Organization Name, Address, Phone Number, Fax Number, E-mail Address)

Is this a Continuation of a Previously Funded Project (if so, please provide the status of the current grant or cooperative agreement):

Proposed Award Amount:

Proposed Awardee Cost Share: (Cost sharing is not required)

Description of General Budget Proposed to Support Project:

Project Description: (Should not exceed two pages of single-spaced text)

Expected Accomplishments or Product, with Dates, and Interim Milestones: This section should also include a discussion of a communication plan for distributing the project results to interested parties.

Describe How the Project Meets the Evaluation Criteria Specified Below:

EPA Pre-Proposal Evaluation Criteria

EPA will consider pre-proposals based on the following criteria:

• The relationship of the proposed project to the priorities identified in this notice.

• How well the project proposes to address a nationally important need, issue, or interest.

• Communication plan to transfer results of the project to other potentially interested parties.

• How well the project furthers the goal of the Clean Water Act to prevent, reduce, and eliminate water pollution.

• Leverage of other resources (e.g. cost share, participation by other organizations) as part of the proposed approach.

• Cost effectiveness of the proposal.

• Compliance with directions for submittal contained in this notice.

EPA may consider applications even if all criteria are not fully met, provided the proposed projects meet the applicable statutory and regulatory requirements and funds are available for such projects.

Eligible Applicants

Eligible applicants for assistance agreements under section 104(b)(3) of the Clean Water Act are State water pollution control agencies, Tribal governments, interstate agencies, and other public or non-profit private agencies, institutions, and organizations.

Application Procedure

Electronic transmittal of pre-proposals is preferred to facilitate the review process. Hard copies are acceptable. Please send three copies of the pre-proposal if it is not electronically transmitted.

Schedule of Activities

This is the estimated schedule of activities for review of proposals and notification of selections:

November 27, 2000—Pre-proposals due to EPA.

December 18, 2000—Initial approvals identified and sponsors of projects selected for funding will be requested to submit a formal application package.

Dated: October 26, 2000.
Michael B. Cook,
Director, Office of Wastewater Management.

[FR Doc. 00-28017 Filed 11-3-00; 8:45 am]

BILLING CODE 6560-50-P